DEPARTMENT OF COMMERCE

National Oceanic and Atmospheric Administration

[RTID 0648-XA234]

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a two-day workshop via webinar of its Standing, Reef Fish, Mackerel, Ecosystem and Socioeconomic Scientific and Statistical Committees (SSC) reviewing the Marine Recreational Information Program—Fishing Effort Survey (MRIP-FES).

DATES: The workshop will be held on Wednesday, July 8, 2020 and Thursday, July 9, 2020, from 8:30 a.m. to 5:30 p.m., EDT daily.

ADDRESSES: The workshop will take place via webinar; you may register by visiting www.gulfcouncil.org and clicking on the SSC meeting on the calendar.

Council address: Gulf of Mexico Fishery Management Council, 4107 W Spruce Street, Suite 200, Tampa, FL 33607; telephone: (813) 348-1630.

FOR FURTHER INFORMATION CONTACT: Ryan Rindone, Lead Fishery Biologist, Gulf of Mexico Fishery Management Council; ryan.rindone@gulfcouncil.org, telephone: (813) 348-1630.

SUPPLEMENTARY INFORMATION:

Wednesday, July 8, 2020; 8:30 a.m.-5:30 p.m.

The workshop will begin with Introductions, Adoption of Agenda and Scope of Work. The Committees will receive presentations and questions on the FES from the National Marine Fisheries Science Center (NMFS). Presentations will include a Coastal Household Telephone Survey (CHTS) versus FES Primer—differences in effort survey designs, MRIP catch and effort estimation, characterization of CHTS biases, characterization of FES biases, QA/QC Process; Calibration Process—FES Calibration Model and Methods, comparison of effort calibrations to historical regional population estimates, fishing license numbers, and/or other quantifiable censoring datasets, impacts of calibrations on regional estimates of fishing effort; Post-processing of MRIP estimates—weight estimation procedures, description of MRIP weight estimation method, description of Southeast Fisheries Science Center (SEFSC) weight estimation method and MRIP vs. SEFSC plots of Gulf king mackerel and gray snapper weight estimates, CHTS to For-Hire Survey (FHS) calibration method and CHTS vs FHS plots for charter estimates of specified Gulf species (Gulf king mackerel and gray snapper). The Committees will also review Operationalizing FES Data—FES estimates as used for quota monitoring and management, data availability and certification, effects of calibration on fishing season duration projections, calibration of historical landings data and effects on sector allocations, and the effects on IFQ programs.

Thursday, July 9, 2020; 8:30 a.m.-5:30 p.m.

The Committees will review case studies on Gulf of Mexico Migratory Group King Mackerel and Gray Snapper; comparison of landings, effort, and discards, pre- and post-FES, treatment of shore mode landings, effort and discards, treatment of outlier/abnormal data points, shifts in projected catch recommendations, pre- and post-FES and the effects of FES calibration of estimated discards.

The Committees will make recommendations to the Council based on the information presented during the workshop, as appropriate.

Lastly, the Committees will discuss any other business items.

—Meeting Adjourns

The meeting will be broadcast via webinar. You may register for the webinar by visiting www.gulfcouncil.org and clicking on the SSC meeting on the calendar.

Time will be afforded following each major Agenda item for a brief question and answer session, during which members of the public may ask questions of the presenters and the Committees.

The Agenda is subject to change, and the latest version along with other meeting materials will be posted on www.gulfcouncil.org as they become available.

Although other non-emergency issues not on the agenda may come before the Scientific and Statistical Committees for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take action to address the emergency.

Authority: 16 U.S.C. 1801 et seq.

Dated: June 18, 2020.
Tracey L. Thompson,
Acting Deputy Director, Office of Sustainable Fisheries, National Marine Fisheries Service.

[FR Doc. 2020-13483 Filed 6-22-20; 8:45 am]

BILLING CODE 3510-22-P